DEPARTMENT OF HOMELAND SECURITY

Coast Guard

33 CFR Parts 88, 101, 117, 151, 154, 155, 159, and 161

USCG-2005-21531

RIN 1625-ZA04

Navigation and Navigable Waters; Technical, Organizational, and Conforming Amendments

AGENCY: Coast Guard, DHS.

ACTION: Final rule.

SUMMARY: This rule makes non-substantive changes throughout Title 33 of the Code of Federal Regulations. The purpose of this rule is to make conforming amendments and technical corrections to Coast Guard navigation and navigable water regulations. This rule will have no substantive effect on the regulated public.

DATES: This final rule is effective June 23, 2005.

ADDRESSES: Comments and material received from the public, as well as documents mentioned in this preamble as being available in the docket, are part of docket USCG-2005-21531 and are available for inspection or copying at the Docket Management Facility, U.S. Department of Transportation, room PL-401, 400 Seventh Street SW., Washington, DC, between 9 a.m. and 5 p.m., Monday through Friday, except Federal holidays. You may also find this docket on the Internet at http://dms.dot.gov.

FOR FURTHER INFORMATION CONTACT: If you have questions on this rule, call Mr. Ray Davis, Coast Guard, telephone 202-267-6826. If you have questions on viewing the docket, call Ms. Andrea M. Jenkins, Program Manager, Docket Operations, telephone 202-366-0271.

SUPPLEMENTARY INFORMATION:

Regulatory History

We did not publish a notice of proposed rulemaking (NPRM) for this regulation. Under both 5 U.S.C. 553(b)(A) and (b)(B), the Coast Guard finds that this rule is exempt from notice and comment rulemaking requirements because these changes involve agency organization and practices, and good cause exists for not publishing an NPRM for all revisions in the rule because they are all non-substantive changes. This rule consists only of corrections and editorial, organizational, and conforming amendments. These changes will have no substantive effect on the public; therefore, it is unnecessary to publish an NPRM. Under 5 U.S.C. 553(d)(3), the Coast Guard finds that, for the same reasons, good cause exists for making this rule effective less than 30 days after publication in the Federal Register.

Background and Purpose

Each year Title 33 of the Code of Federal Regulations is updated on July 1. This rule, which becomes effective June 23, 2005, makes other technical and editorial corrections throughout title 33. This rule does not create any substantive requirements.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS). We expect the economic impact of this rule to be so minimal that a full Regulatory Evaluation under the regulatory policies and procedures of DHS is unnecessary. As this rule involves internal agency practices and procedures and non-substantive changes, it will not impose any costs on the public.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. This rule does not require a general NPRM and, therefore, is exempt from the requirements of the Regulatory Flexibility Act. Although this rule is exempt, we have reviewed it for potential economic impact on small entities.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in an expenditure of this magnitude, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies. This rule does not use technical standards. Therefore, we did not consider the use of voluntary consensus standards.

Environment

We have analyzed this rule under Commandant Instruction M16475.lD, which guides the Coast Guard in complying with the National Environmental Policy Act of 1969 (NEPA)(42 U.S.C. 4321-4370f), and have concluded that there are no factors in this case that would limit the use of a categorical exclusion under section 2.B.2 of the Instruction. Therefore, this rule is categorically excluded, under figure 2-1, paragraph (34)(a) and (b), of the Instruction from further environmental documentation because this rule involves editorial, procedural, and internal agency functions. A final “Environmental Analysis Check List” and a final “Categorical Exclusion Determination” are available in the docket where indicated under ADDRESSES.

List of Subjects

33 CFR Part 88

Navigation (water), Waterways.

33 CFR Part 101

Harbors, Maritime security, Reporting and recordkeeping requirements, Security measures, Vessels, Waterways.

33 CFR Part 117

Bridges.

33 CFR Part 151

Administrative practice and procedure, Oil pollution, Penalties, Reporting and recordkeeping requirements, Water pollution control.

33 CFR Part 154

Alaska, Fire prevention, Hazardous substances, Oil pollution, Reporting and recordkeeping requirements.

33 CFR Part 155

Alaska, Hazardous substances, Oil pollution, Reporting and recordkeeping requirements.

33 CFR Part 159

Alaska, Reporting and recordkeeping requirements, Sewage disposal, Vessels.

33 CFR Part 161

Harbors, Navigation (water), Reporting and recordkeeping requirements, Vessels, Waterways.

For the reasons discussed in the preamble, the Coast Guard amends 33 CFR parts 88, 101, 117, 151, 154, 155, 159, and 161.

Title 33—Navigation and Navigable Waters

PART 88—ANNEX V: PILOT RULES

1. Revise the authority citation for part 88 to read as follows:

Authority: 33 U.S.C. 2071.

2. Revise § 88.05 to read as follows:

§ 88.05 Copy of rules.

The operator of each self-propelled vessel 12 meters or more in length shall carry on board and maintain for ready reference a copy of the Inland Navigation Rules.

PART 101—MARITIME SECURITY: GENERAL

3. The authority citation for part 101 continues to read as follows:

Authority: 33 U.S.C. 1226, 1231; 46 U.S.C. Chapter 701; 50 U.S.C. 191, 192; Executive Order 12656, 3 CFR 1988 Comp., p. 585; 33 CFR 1.05-1, 6.04-11, 6.14, 6.16, and 6.19; Department of Homeland Security Delegation No. 0170.1.

§ 101.305 [Amended]

4. In 101.305(a), remove the words “fax: 202-267-2165” and add, in their place, the words “fax: 202-267-1322”.

PART 117—DRAWBRIDGE OPERATION REGULATIONS

5. Revise the authority citation for part 117 to read as follows:

Authority: 33 U.S.C. 499; 33 CFR 1.05-1(g); Department of Homeland Security Delegation No. 0170.1; section 117.255 also issued under the authority of Pub. L. 102-587, 106 Stat.5039.

§ 117.389 [Amended]

6. In § 117.389, remove the words “The draws of the Contrail bridges, miles 1.4 and 1.5” and add, in their place, the words “The draws of the Norfolk Southern railroad bridges, miles 1.32 and 1.36”.

§ 117.631 [Amended]

7. In § 117.631—

a. In paragraph (a), remove the words “(Grosse Ile Parkway)” and add, in their place, the words “(Bridge Road)”; and

b. In paragraph (b), remove the words “(Bridge Road)” and add, in their place, the words “(Grosse Ile Parkway)”.

§ 117.997 [Amended]

8. In § 117.997(g)(2)(i), remove the characters “(f)(2)(ii)” and add, in their place, the characters “(g)(2)(ii)”.

§ 117.1093 [Amended]

9. In § 117.1093—

a. In paragraph (c)(3)(i), remove the words “The Chicago and Northwestern bridge, mile 0.3,” and add, in their place, the words “The Union Pacific railroad bridge, mile 0.59,”;

b. In paragraph (d)(1), remove the value “0.1” and add, in its place, the value “1.08”;

c. In paragraph (d)(3), remove the words “The opening signal for the Chicago, Milwaukee, St. Paul and Pacific railroad bridge across the Menomonee River, mile 0.1,” and add, in their place, the words “The opening signal for the Canadian Pacific railroad bridge across the Menomonee River, mile 1.05,”;

d. In paragraph (e)(2), remove the words “The draws of the Chicago, Milwaukee, St. Paul and Pacific railroad bridge, mile 1.5, and the Chicago and Northwestern Railway bridge, mile 1.52,” and add, in their place, the words “The draws of the Canadian Pacific railroad bridge, mile 1.67, and the Union Pacific railroad bridge, mile 1.71,”; and

e. In paragraph (e)(4), remove the words “The opening signal for the Chicago and Northwestern bridge, mile 1.0,” and add, in their place, the words “The opening signal for the Union Pacific railroad bridge, mile 1.19,”.

PART 151—VESSELS CARRYING OIL, NOXIOUS LIQUID SUBSTANCES, GARBAGE, MUNICIPAL OR COMMERCIAL WASTE, AND BALLAST WATER

10. Revise the authority citation for part 151 to read as follows:

Authority: 33 U.S.C. 1321 and 1903; Pub. L. 104-227 (110 Stat. 3034), E.O. 12777, 3 CFR, 1991 Comp. p. 351.

PART 151—[AMENDED]

11. In Part 151, Subpart D, Appendix, in the last paragraph of the instructions titled “Where to send this form.”, remove the value “(2115-0598)” and add, in its place, the value “(1625-0069)”.

12. In Part 151, Subpart D, Appendix, in the last sentence of the appendix, remove the value “(2115-0598)” and add, in its place, the value “(1625-0069)”.

PART 154—FACILITIES TRANSFERRING OIL OR HAZARDOUS MATERIAL IN BULK

13. The authority citation for part 154 continues to read as follows:

Authority: 33 U.S.C. 1231, 1321(j)(1)(C),(j)(5), (j)(6), and (m)(2); sec. 2, E.O. 12777, 56 FR 54757; Department of Homeland Security Delegation No. 0170.1; Subpart F is also issued under 33 U.S.C. 2735.

14. In Part 154, Appendix C, Table 5, in the “Tier 1” column, remove the value “6.35K” and add, in its place, the value “6.25K”.

PART 155—OIL OR HAZARDOUS MATERIAL POLLUTION PREVENTION REGULATIONS FOR VESSELS

15. The authority citation for part 155 continues to read as follows:

Authority: 33 U.S.C. 1231, 1321(j); E.O. 11735, 3 CFR, 1971-1975 Comp., p. 793. Sections 155.100 through 155.130, 150.350 through 155.400, 155.430, 155.440, 155.470, 155.1030(j) and (k), and 155.1065(g) are also issued under 33 U.S.C. 1903(b). Sections 155.480, 155.490, 155.750(e), and 155.775 are also issued under 46 U.S.C. 3703. Section 155.490 also issued under section 4110(b) of Pub. L. 101-380.

§ 155.1035 [Amended]

16. In § 155.1035(c)(5)(i), remove the word “marine” and add, in its place, the word “Marine”.

17. In Part 155 Appendix B, Table 6, in the “Tier 2” column, remove the value “12.3K” and add, in its place, the value “12.5K”.

PART 159—MARINE SANITATION DEVICES

18. Revise the authority citation for part 159 to read as follows:

Authority: 33 U.S.C. 1322(b)(1); 49 CFR 1.45(b). Subpart E also issued under authority of sec. 1(a)(4), Pub. L. 106-554, 114 Stat. 2763; Department of Homeland Security Delegation No. 0170.1.

§ 159.309 [Amended]

19. In § 159.309(b)(4), remove the words “milligrams per liter (mg/l);” and add, in their place, the words “micrograms per liter (μg/l);”.

PART 161—VESSEL TRAFFIC MANAGEMENT

20. The authority citation for part 161 continues to read as follows:

Authority: 33 U.S.C. 1223, 1231; 46 U.S.C. 70114, 70117; Pub. L. 107-295, 116 Stat. 2064; Department of Homeland Security Delegation No. 0170.1.

§ 161.5 [Amended]

21. In § 161.5(b), in the first and third sentences of paragraph (b), remove the words “Commanding Officer” and add, in their places, the word “Director”.

Dated: June 17, 2005.
Stefan G. Venckus,
Chief, Office of Regulations and Administrative Law, U.S. Coast Guard.

[FR Doc. 05-12441 Filed 6-22-05; 8:45 am]

BILLING CODE 4910-15-P